DEPARTMENT OF LABOR

Employment and Training Administration

[TA-W-50,132]

Ceramic Cooling Technologies, Fort Worth, Texas; Notice of Termination of Investigation

Pursuant to Section 221 of the Trade Act of 1974, an investigation was initiated on November 19, 2002 in response to a worker petition that was filed by the company on behalf of workers at Ceramic Cooling Technologies, Fort Worth, Texas.

The company has requested that the petition for Trade Adjustment Assistance be withdrawn. Consequently, further investigation would serve no purpose, and the investigation has been terminated.

Signed in Washington, DC this 8th day of January, 2003.
Elliott S. Kushner,
Certifying Officer, Division of Trade Adjustment Assistance.

[FR Doc. 03-2551 Filed 2-3-03; 8:45 am]

BILLING CODE 4510-30-P